UNITED STATES AGENCY FOR INTERNATIONAL DEVELOPMENT

30-Day Notice of Proposed Information Collection: Title II Vegetable Oil Packaging Survey

AGENCY: Office of Food for Peace (FFP), United States Agency for International Development (USAID).

ACTION: Notice of request for public comment.

SUMMARY: The U.S. Agency for International Development (USAID) seeks Office of Management and Budget (OMB) approval for the information collection described below. In accordance with the Paperwork Reduction Act of 1995, USAID request public comment on this collection from all interested individuals and organizations. This proposed information collection was published in the Federal Register on December 16, 2019, allowing for a 60-day public comment period. No comments were received regarding the Federal Register Notice. The purpose of this notice is to allow an additional 30 days for public comment.

DATES: Comments must be received no later than March 26, 2020.

ADDRESSES: Interested persons are invited to submit comments regarding the proposed information collection to Angela Roberts, USAID, Bureau for Democracy, Conflict & Humanitarian Assistance, Office of Food for Peace at angroberts@usaid.gov.

FOR FURTHER INFORMATION CONTACT: Angela Roberts, 703-775-6140, angroberts@usaid.gov

Jamie Fisher,
Food for Peace Program Operations Team Leader.

[FR Doc. 2020-03704 Filed 2-24-20; 8:45 am]

BILLING CODE 6116-01-P